DEPARTMENT OF HEALTH AND HUMAN SERVICES

National Institutes of Health

Office of Biotechnology Activities, Office of the Director; Notice of Meeting

Pursuant to section 10(d) of the Federal Advisory Committee Act, as amended (5 U.S.C. Appendix 2), notice is hereby given of a special meeting of the National Science Advisory Board for Biosecurity (NSABB) that was held by teleconference on September 29, 2005. The Secretary determined that advance notice was not possible, and that the meeting had to be closed to the public in accordance with the provisions set forth in section 552b(c)(4) and 552b(c)(6), Title 5 U.S.C., as amended.

Under authority 42 U.S.C. 217a, Section 222 of the Public Health Service Act, as amended, the Department of Health and Human Services established NSABB to provide advice, guidance and leadership regarding Federal oversight of dual-use research, defined as biological research with legitimate scientific purposes that could be misused to pose a biological threat to public health and/or national security.

Name of Committee: National Science Advisory Board for Biosecurity.

Date: September 29, 2005.

Closed: 10 a.m. to 12 p.m.

Agenda: To review confidential information.

Place: 6705 Rockledge Drive, Bethesda, Maryland, (Telephone Conference Call).

Contact Person: Allison Chamberlain, NSABB Program Assistant, 6705 Rockledge Drive, Bethesda, Maryland 20892, (301) 496-9838.

Dated: October 4, 2005.
Anthony M. Coelho, Jr.,
Acting Director, Office of Federal Advisory Committee Policy.

[FR Doc. 05-20748 Filed 10-17-05; 8:45 am]

BILLING CODE 4140-01-M